CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. chapter 35). Copies of this ICR, with applicable supporting documentation, may be obtained by calling the Corporation for National and Community Service, William M. Ward, at (202) 606-5000, extension 375 or by e-mail at WWard@cns.gov. Individuals who use a telecommunications device for the deaf (TTY-TDD) may call (800) 833-3722 between the hours of 9 a.m. and 5 p.m. Eastern Standard Time, Monday through Friday.

Comments should be sent to the Office of Information and Regulatory Affairs, Attn: Ms. Brenda Aguilar, OMB Desk Officer for the Corporation for National and Community Service, Office of Management and Budget, Room 10235, Washington, DC, 20503, (202) 395-7316, within 30 days from the date of publication in this Federal Register.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description

Currently, the Corporation is conducting a Study of the Community, Higher Education, and School Partnerships (CHESP) supported with Learn and Serve America School-based funds. The Corporation seeks approval of two telephone survey forms that will be used to collect information from CHESP grantees and subgrantee organizations which will describe the organizations, the CHESP activities that they are involved in, and their perceptions of their CHES Partnerships. This requires collecting information from grantee and subgrantee organization staff that will address: (1) CHESP project characteristics and information about the implementation of the partnerships; and (2) the impact of the CHESP partnerships on the grantee and the subgrantee organizations.

Type of Review: New collection.

Agency: Corporation for National and Community Service.

Title: CHESP Grantee/Subgrantee Survey.

OMB Number: None.

Agency Number: None.

Affected Public: Project staff at CHESP grantee organizations such as state education agencies, grantmaking entities, and one Indian Tribe, and project staff at subgrantee organizations such as community based organizations, elementary and secondary schools and school districts, and institutions of higher education.

Total Respondents: 20 grantees, and approximately 166 subgrantees.

Frequency: One time survey.

Average Time Per Response: Grantee Survey: 60 minutes, Subgrantee Survey: 50 minutes.

Estimated Total Burden Hours: 160.

Total Burden Cost (capital/startup): None.

Total Burden Cost (operating/maintenance): None.

Dated: August 22, 2002.
David Reingold,
Director, Department of Research and Policy Development.

[FR Doc. 02-21914 Filed 8-27-02; 8:45 am]

BILLING CODE 6050-$$-P